DEPARTMENT OF ENERGY

Federal Energy Regulatory Commission

Combined Notice of Filings

Take notice that the Commission has received the following Natural Gas Pipeline Rate and Refund Report filings:

Filings Instituting Proceedings

Docket Numbers: RP16-755-000.

Applicants: Transcontinental Gas Pipe Line Company.

Description: § 4(d) Rate Filing: Negotiated Rates—Cherokee AGL—Replacement Shippers—Apr 2016 to be effective 4/1/2016.

Filed Date: 3/30/16.

Accession Number: 20160330-5000.

Comments Due: 5 p.m. ET 4/11/16.

Docket Numbers: RP16-756-000.

Applicants: Natural Gas Pipeline Company of America.

Description: § 4(d) Rate Filing: Service Agreement Exhibit B to be effective 5/1/2016.

Filed Date: 3/30/16.

Accession Number: 20160330-5245.

Comments Due: 5 p.m. ET 4/11/16.

Docket Numbers: RP16-757-000.

Applicants: Trans-Union Interstate Pipeline, L.P.

Description: § 4(d) Rate Filing: Negotiated Rate Filing to be effective 5/1/2016.

Filed Date: 3/30/16.

Accession Number: 20160330-5246.

Comments Due: 5 p.m. ET 4/11/16.

Docket Numbers: RP16-758-000.

Applicants: Natural Gas Pipeline Company of America.

Description: Penalty Revenue Crediting Report of Natural Gas Pipeline Company of America LLC.

Filed Date: 3/30/16.

Accession Number: 20160330-5270.

Comments Due: 5 p.m. ET 4/11/16.

Docket Numbers: RP16-759-000.

Applicants: El Paso Natural Gas Company, L.L.C.

Description: Request for Waiver and Extensions of El Paso Natural Gas Company, L.L.C.

Filed Date: 3/30/16.

Accession Number: 20160330-5277.

Comments Due: 5 p.m. ET 4/11/16.

Docket Numbers: RP16-760-000.

Applicants: Equitrans, L.P.

Description: § 4(d) Rate Filing: Negotiated Rate Service Agreement—BP effective 4/1/2016 to be effective 4/1/2016.

Filed Date: 3/31/16.

Accession Number: 20160331-5009.

Comments Due: 5 p.m. ET 4/12/16.

Docket Numbers: RP16-761-000.

Applicants: Texas Eastern Transmission, LP

Description: § 4(d) Rate Filing: Negotiated Rates—Apr2016 Chevron TEAM 2014 Releases to be effective 4/1/2016.

Filed Date: 3/31/16.

Accession Number: 20160331-5010.

Comments Due: 5 p.m. ET 4/12/16.

Docket Numbers: RP16-762-000.

Applicants: Northern Border Pipeline Company.

Description: § 4(d) Rate Filing: Compressor Usage Surcharge 2016 to be effective 5/1/2016.

Filed Date: 3/31/16.

Accession Number: 20160331-5012.

Comments Due: 5 p.m. ET 4/12/16.

Docket Numbers: RP16-763-000.

Applicants: ANR Pipeline Company.

Description: § 4(d) Rate Filing: DTCA 2016 to be effective 5/1/2016.

Filed Date: 3/31/16.

Accession Number: 20160331-5057.

Comments Due: 5 p.m. ET 4/12/16.

Docket Numbers: RP16-764-000.

Applicants: East Tennessee Natural Gas, LLC.

Description: § 4(d) Rate Filing: Wacker Release to Twin Eagle to be effective 4/1/2016.

Filed Date: 3/31/16.

Accession Number: 20160331-5061.

Comments Due: 5 p.m. ET 4/12/16.

Docket Numbers: RP16-765-000.

Applicants: Pine Needle LNG Company, LLC.

Description: § 4(d) Rate Filing: 2016 Annual Fuel and Electric Power Tracker Filing to be effective 5/1/2016.

Filed Date: 3/31/16.

Accession Number: 20160331-5067.

Comments Due: 5 p.m. ET 4/12/16.

Docket Numbers: RP16-766-000.

Applicants: TC Offshore LLC.

Description: Transporter's Use Report of TC Offshore LLC.

Filed Date: 3/31/16.

Accession Number: 20160331-5080.

Comments Due: 5 p.m. ET 4/12/16.

Docket Numbers: RP16-767-000.

Applicants: Bison Pipeline LLC.

Description: Company Use Gas Annual Report of Bison Pipeline LLC.

Filed Date: 3/31/16.

Accession Number: 20160331-5081.

Comments Due: 5 p.m. ET 4/12/16.

Docket Numbers: RP16-768-000.

Applicants: Panhandle Eastern Pipe Line Company, LP.

Description: Compliance filing Flow Through of Cash Out Revenues filed on 3-31-16 to be effective 5/1/2016.

Filed Date: 3/31/16.

Accession Number: 20160331-5085.

Comments Due: 5 p.m. ET 4/12/16.

Docket Numbers: RP16-769-000.

Applicants: Panhandle Eastern Pipe Line Company, LP.

Description: Compliance filing Flow Through of Penalty Revenues Report filed on 3-31-16.

Filed Date: 3/31/16.

Accession Number: 20160331-5088.

Comments Due: 5 p.m. ET 4/12/16.

Docket Numbers: RP16-770-000.

Applicants: Columbia Gas Transmission, LLC.

Description: § 4(d) Rate Filing: OTRA—Summer 2016 to be effective 5/1/2016.

Filed Date: 3/31/16.

Accession Number: 20160331-5095.

Comments Due: 5 p.m. ET 4/12/16.

Docket Numbers: RP16-771-000.

Applicants: Hardy Storage Company, LLC.

Description: § 4(d) Rate Filing: RAM 2016 to be effective 5/1/2016.

Filed Date: 3/31/16.

Accession Number: 20160331-5104.

Comments Due: 5 p.m. ET 4/12/16.

Docket Numbers: RP16-772-000.

Applicants: Algonquin Gas Transmission, LLC.

Description: § 4(d) Rate Filing: Negotiated Rates—Colonial Gas Releases to BBPC to be effective 4/1/2016.

Filed Date: 3/31/16.

Accession Number: 20160331-5117.

Comments Due: 5 p.m. ET 4/12/16.

Docket Numbers: RP16-773-000.

Applicants: Algonquin Gas Transmission, LLC.

Description: § 4(d) Rate Filing: Negotiated Rates—ConEd Release to Emera to be effective 4/1/2016.

Filed Date: 3/31/16.

Accession Number: 20160331-5123.

Comments Due: 5 p.m. ET 4/12/16.

Docket Numbers: RP16-774-000.

Applicants: Natural Gas Pipeline Company of America.

Description: § 4(d) Rate Filing: Removal of Expired Contracts to be effective 5/1/2016.

Filed Date: 3/31/16.

Accession Number: 20160331-5125.

Comments Due: 5 p.m. ET 4/12/16.

Docket Numbers: RP16-775-000.

Applicants: Texas Eastern Transmission, LP.

Description: § 4(d) Rate Filing: Negotiated Rates—Apr2016 EQT TEAM 2014 Releases to be effective 4/1/2016.

Filed Date: 3/31/16.

Accession Number: 20160331-5138.

Comments Due: 5 p.m. ET 4/12/16.

Docket Numbers: RP16-776-000.

Applicants: Northern Natural Gas Company.

Description: § 4(d) Rate Filing: 20160331 Negotiated Rates to be effective 4/1/2016.

Filed Date: 3/31/16.

Accession Number: 20160331-5190.

Comments Due: 5 p.m. ET 4/12/16.

Docket Numbers: RP16-777-000.

Applicants: KPC Pipeline, LLC.

Description: § 4(d) Rate Filing: Fuel Reimbursement Adjustment to be effective 4/1/2016.

Filed Date: 3/31/16.

Accession Number: 20160331-5193.

Comments Due: 5 p.m. ET 4/12/16.

Docket Numbers: RP16-778-000.

Applicants: Transcontinental Gas Pipe Line Company.

Description: § 4(d) Rate Filing: Negotiated Rates—ESS—WGL Midstream, Inc. to be effective 4/1/2016.

Filed Date: 3/31/16.

Accession Number: 20160331-5216.

Comments Due: 5 p.m. ET 4/12/16.

Docket Numbers: RP16-779-000.

Applicants: Iroquois Gas Transmission System, L.P.

Description: § 4(d) Rate Filing: 03/31/16 Negotiated Rates—Emera Energy Services Inc. (RTS) 2715-29 to be effective 4/1/2016.

Filed Date: 3/31/16.

Accession Number: 20160331-5225.

Comments Due: 5 p.m. ET 4/12/16.

Docket Numbers: RP16-780-000.

Applicants: Iroquois Gas Transmission System, L.P.

Description: § 4(d) Rate Filing: 03/31/16 Negotiated Rates—Emera Energy Services Inc. (RTS) 2715-30 to be effective 4/1/2016.

Filed Date: 3/31/16.

Accession Number: 20160331-5226.

Comments Due: 5 p.m. ET 4/12/16.

Docket Numbers: RP16-781-000.

Applicants: Equitrans, L.P.

Description: § 4(d) Rate Filing: Negotiated Rate Service Agreement—Range Resources effective 04-01-2016 to be effective 4/1/2016.

Filed Date: 3/31/16.

Accession Number: 20160331-5231.

Comments Due: 5 p.m. ET 4/12/16.

Docket Numbers: RP16-782-000.

Applicants: Texas Eastern Transmission, LP.

Description: § 4(d) Rate Filing: Negotiated Rates—NJR Energy Services Contract 911348 to be effective 4/1/2016.

Filed Date: 3/31/16.

Accession Number: 20160331-5233.

Comments Due: 5 p.m. ET 4/12/16.

Docket Numbers: RP16-783-000.

Applicants: Iroquois Gas Transmission System, L.P.

Description: § 4(d) Rate Filing: 03/31/16 Negotiated Rates—Exelon Generation Company, LLC (RTS) 1985-26 to be effective 4/1/2016.

Filed Date: 3/31/16.

Accession Number: 20160331-5237.

Comments Due: 5 p.m. ET 4/12/16.

Docket Numbers: RP16-784-000.

Applicants: Iroquois Gas Transmission System, L.P.

Description: § 4(d) Rate Filing: 03/31/16 Negotiated Rates—Exelon Generation Company, LLC (RTS) 1985-27 to be effective 4/1/2016.

Filed Date: 3/31/16.

Accession Number: 20160331-5243.

Comments Due: 5 p.m. ET 4/12/16.

Docket Numbers: RP16-785-000.

Applicants: Trailblazer Pipeline Company LLC.

Description: Annual Incidental Purchases and Sales Report of Trailblazer Pipeline Company LLC.

Filed Date: 3/31/16.

Accession Number: 20160331-5248.

Comments Due: 5 p.m. ET 4/12/16.

Docket Numbers: RP16-786-000.

Applicants: Questar Overthrust Pipeline Company.

Description: § 4(d) Rate Filing: Cleanup of provisions affected by Order No. 587-W to be effective 4/1/2016.

Filed Date: 3/31/16.

Accession Number: 20160331-5286.

Comments Due: 5 p.m. ET 4/12/16.

Docket Numbers: RP16-787-000.

Applicants: Natural Gas Pipeline Company of America.

Description: § 4(d) Rate Filing: Sabine Pass Negotiated Rate to be effective 4/1/2016.

Filed Date: 3/31/16.

Accession Number: 20160331-5297.

Comments Due: 5 p.m. ET 4/12/16.

Docket Numbers: RP16-788-000.

Applicants: ETC Tiger Pipeline, LLC.

Description: § 4(d) Rate Filing: Non-Conforming Agreement Restated-Chesapeake to be effective 4/1/2016.

Filed Date: 3/31/16.

Accession Number: 20160331-5309.

Comments Due: 5 p.m. ET 4/12/16.

Docket Numbers: RP16-789-000.

Applicants: Enable Gas Transmission, LLC.

Description: § 4(d) Rate Filing: Negotiated Rate Filing-April-Red River 1010443-CERC 1001019 to be effective 4/1/2016.

Filed Date: 3/31/16.

Accession Number: 20160331-5323.

Comments Due: 5 p.m. ET 4/12/16.

Docket Numbers: RP16-790-000.

Applicants: Equitrans, L.P.

Description: § 4(d) Rate Filing: Expired Negotiated and/or Non-Conforming Rate Agreements to be effective 5/1/2016.

Filed Date: 3/31/16.

Accession Number: 20160331-5347.

Comments Due: 5 p.m. ET 4/12/16.

Docket Numbers: RP16-791-000.

Applicants: Florida Gas Transmission Company, LLC.

Description: § 4(d) Rate Filing: Exhibit B Update—add and delete contracts to be effective 4/1/2016.

Filed Date: 3/31/16.

Accession Number: 20160331-5354.

Comments Due: 5 p.m. ET 4/12/16.

Docket Numbers: RP16-792-000.

Applicants: Equitrans, L.P.

Description: § 4(d) Rate Filing: Non-Conforming and Negotiated to Negotiated Rate Agreement Update to be effective 5/1/2016.

Filed Date: 3/31/16.

Accession Number: 20160331-5358.

Comments Due: 5 p.m. ET 4/12/16.

Docket Numbers: RP16-793-000.

Applicants: Columbia Gas Transmission, LLC.

Description: § 4(d) Rate Filing: Negotiated Rate Amendment—ODEC 2016 to be effective 4/1/2016.

Filed Date: 4/1/16.

Accession Number: 20160401-5001.

Comments Due: 5 p.m. ET 4/13/16.

Docket Numbers: RP16-794-000.

Applicants: Gas Transmission Northwest LLC.

Description: § 4(d) Rate Filing: Powerex Neg Rate Agmt to be effective 4/1/2016.

Filed Date: 4/1/16.

Accession Number: 20160401-5020.

Comments Due: 5 p.m. ET 4/13/16.

Docket Numbers: RP16-795-000.

Applicants: Northern Border Pipeline Company.

Description: § 4(d) Rate Filing: BP Canada Energy Neg Rate Agmts 2016 to be effective 4/1/2016.

Filed Date: 4/1/16.

Accession Number: 20160401-5021.

Comments Due: 5 p.m. ET 4/13/16.

Docket Numbers: RP16-796-000.

Applicants: ANR Storage Company.

Description: § 4(d) Rate Filing: Removal/Addition of 4 Neg Rate Agmts to be effective 4/1/2016.

Filed Date: 4/1/16.

Accession Number: 20160401-5022.

Comments Due: 5 p.m. ET 4/13/16.

Docket Numbers: RP16-797-000.

Applicants: ANR Pipeline Company.

Description: § 4(d) Rate Filing: Wisconsin Gas LLC Neg Rate Agmt to be effective 4/1/2016.

Filed Date: 4/1/16.

Accession Number: 20160401-5023.

Comments Due: 5 p.m. ET 4/13/16.

Docket Numbers: RP16-798-000.

Applicants: East Tennessee Natural Gas, LLC.

Description: East Tennessee Natural Gas, LLC submits 2014-2015 Cashout Report.

Filed Date: 3/31/16.

Accession Number: 20160331-5401.

Comments Due: 5 p.m. ET 4/12/16.

Docket Numbers: RP16-799-000.

Applicants: Texas Gas Transmission, LLC.

Description: § 4(d) Rate Filing: NC Agmt Filing (Clarksdale 20393) to be effective 4/1/2016.

Filed Date: 4/1/16.

Accession Number: 20160401-5103.

Comments Due: 5 p.m. ET 4/13/16.

Docket Numbers: RP16-800-000.

Applicants: Texas Gas Transmission, LLC.

Description: § 4(d) Rate Filing: Cap Rel Neg Rate Agmt (Cross Timbers 29061 to 35435) to be effective 4/1/2016.

Filed Date: 4/1/16.

Accession Number: 20160401-5106.

Comments Due: 5 p.m. ET 4/13/16.

Docket Numbers: RP16-801-000.

Applicants: Gulf Crossing Pipeline Company LLC.

Description: § 4(d) Rate Filing: Cap Rel Neg Rate Agmt (Newfield 18 to Tenaska 1757) to be effective 4/1/2016.

Filed Date: 4/1/16.

Accession Number: 20160401-5133.

Comments Due: 5 p.m. ET 4/13/16.

Docket Numbers: RP16-802-000.

Applicants: Gulf Crossing Pipeline Company LLC.

Description: § 4(d) Rate Filing: Amendment to Neg Rate Agmt (BP 37-22) to be effective 4/1/2016.

Filed Date: 4/1/16.

Accession Number: 20160401-5136.

Comments Due: 5 p.m. ET 4/13/16.

Docket Numbers: RP16-803-000.

Applicants: Gulf South Pipeline Company, LP.

Description: § 4(d) Rate Filing: Cap Rel Neg Rate Agmt (EOG 34687 to Trans LA 46117) to be effective 4/1/2016.

Filed Date: 4/1/16.

Accession Number: 20160401-5146.

Comments Due: 5 p.m. ET 4/13/16.

Docket Numbers: RP16-804-000.

Applicants: Gulf South Pipeline Company, LP.

Description: § 4(d) Rate Filing: Cap Rel Neg Rate Agmts (Atlanta Gas 8438 to various eff 4-1-16) to be effective 4/1/2016.

Filed Date: 4/1/16.

Accession Number: 20160401-5148.

Comments Due: 5 p.m. ET 4/13/16.

Docket Numbers: RP16-805-000.

Applicants: Gulf South Pipeline Company, LP.

Description: § 4(d) Rate Filing: Cap Rel Neg Rate Agmt (PH 41455 to BP 46122, Texla 46179, Sequent 46192) to be effective 4/1/2016.

Filed Date: 4/1/16.

Accession Number: 20160401-5149.

Comments Due: 5 p.m. ET 4/13/16.

Docket Numbers: RP16-806-000.

Applicants: Gulf South Pipeline Company, LP.

Description: § 4(d) Rate Filing: Cap Rel Neg Rate Agmt (Willmut 35221 to BP 46172) to be effective 4/1/2016.

Filed Date: 4/1/16.

Accession Number: 20160401-5150.

Comments Due: 5 p.m. ET 4/13/16.

Docket Numbers: RP16-807-000.

Applicants: Gulf South Pipeline Company, LP.

Description: § 4(d) Rate Filing: Cap Rel Neg Rate Agmts (Encana 37663 to BP 46181, Texla 46182) to be effective 4/1/2016.

Filed Date: 4/1/16.

Accession Number: 20160401-5151.

Comments Due: 5 p.m. ET 4/13/16.

Docket Numbers: RP16-808-000.

Applicants: Gulf South Pipeline Company, LP.

Description: § 4(d) Rate Filing: Cap Rel Neg Rate Agmt (EOG 34687 to Sempra 46193) to be effective 4/1/2016.

Filed Date: 4/1/16.

Accession Number: 20160401-5152.

Comments Due: 5 p.m. ET 4/13/16.

Docket Numbers: RP16-809-000.

Applicants: Gulf South Pipeline Company, LP.

Description: § 4(d) Rate Filing: Amendment to Neg Rate Agmt (Chevron 41610-10) to be effective 4/1/2016.

Filed Date: 4/1/16.

Accession Number: 20160401-5153.

Comments Due: 5 p.m. ET 4/13/16.

Docket Numbers: RP16-810-000.

Applicants: Kern River Gas Transmission Company.

Description: Annual Gas Compressor Fuel Report of Kern River Gas Transmission Company.

Filed Date: 3/31/16.

Accession Number: 20160331-5417.

Comments Due: 5 p.m. ET 4/12/16.

Docket Numbers: RP16-811-000.

Applicants: Kern River Gas Transmission Company.

Description: § 4(d) Rate Filing: 2016 October Period Two Rates to be effective 10/1/2016.

Filed Date: 4/1/16.

Accession Number: 20160401-5174.

Comments Due: 5 p.m. ET 4/13/16.

Docket Numbers: RP16-812-000.

Applicants: Iroquois Gas Transmission System, L.P.

Description: § 4(d) Rate Filing: 04/01/16 Negotiated Rates—Emera Energy Services Inc. (RTS) 2715-13 & 2715-26 to be effective 4/1/2016.

Filed Date: 4/1/16.

Accession Number: 20160401-5181.

Comments Due: 5 p.m. ET 4/13/16.

Docket Numbers: RP16-813-000.

Applicants: Iroquois Gas Transmission System, L.P.

Description: § 4(d) Rate Filing: 04/01/16 Negotiated Rates—Consolidated Edison Energy Inc. (HUB) 2275-89 to be effective 4/1/2016.

Filed Date: 4/1/16.

Accession Number: 20160401-5196.

Comments Due: 5 p.m. ET 4/13/16.

Docket Numbers: RP16-814-000.

Applicants: Trailblazer Pipeline Company LLC.

Description: § 4(d) Rate Filing: Fuel Tracker—2016 to be effective 5/1/2016.

Filed Date: 4/1/16.

Accession Number: 20160401-5217.

Comments Due: 5 p.m. ET 4/13/16.

Docket Numbers: RP16-815-000.

Applicants: Gulf South Pipeline Company, LP.

Description: § 4(d) Rate Filing: Additional Amendments and Superseding Agreements re Rate Case Settlement to be effective 4/1/2016.

Filed Date: 4/1/16.

Accession Number: 20160401-5250.

Comments Due: 5 p.m. ET 4/13/16.

Docket Numbers: RP16-816-000.

Applicants: Sabine Pipe Line LLC.

Description: § 4(d) Rate Filing: Sabine Negotiated Rate 4-1-16 to be effective 4/1/2016.

Filed Date: 4/1/16.

Accession Number: 20160401-5287.

Comments Due: 5 p.m. ET 4/13/16.

Docket Numbers: RP16-817-000.

Applicants: Rockies Express Pipeline LLC.

Description: Annual Incidental Purchases and Sales Report of Rockies Express Pipeline LLC.

Filed Date: 4/1/16.

Accession Number: 20160401-5311.

Comments Due: 5 p.m. ET 4/13/16.

Docket Numbers: RP16-818-000.

Applicants: Equitrans, L.P.

Description: § 4(d) Rate Filing: Negotiated Capacity Release Agreements—4/1/2016 to be effective 4/1/2016.

Filed Date: 4/1/16.

Accession Number: 20160401-5336.

Comments Due: 5 p.m. ET 4/13/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-731-001.

Applicants: Iroquois Gas Transmission System, L.P.

Description: Tariff Amendment: 03/31/16 Negotiated Rates—Mercuria Energy Gas Trdng LLC (RTS) 7540-06 (AMD) to be effective 4/1/2016.

Filed Date: 3/31/16.

Accession Number: 20160331-5151.

Comments Due: 5 p.m. ET 4/12/16.

Docket Numbers: RP16-732-001.

Applicants: Iroquois Gas Transmission System, L.P.

Description: Tariff Amendment: 03/31/16 Negotiated Rates—Mercuria Energy Gas Trdng LLC (RTS) 7540-07 (AMD) to be effective 4/1/2016.

Filed Date: 3/31/16.

Accession Number: 20160331-5163.

Comments Due: 5 p.m. ET 4/12/16.

Docket Numbers: RP13-751-003.

Applicants: Algonquin Gas Transmission, LLC.

Description: Compliance filing AGT RP13-751 Compliance Filing to be effective 4/1/2016.

Filed Date: 4/1/16.

Accession Number: 20160401-5348.

Comments Due: 5 p.m. ET 4/13/16.

Docket Numbers: RP16-296-001.

Applicants: Midwestern Gas Transmission Company.

Description: Compliance filing Non-Conforming and Negotiated Rate Agreement Effective Date—Antero Resources to be effective 3/29/2016.

Filed Date: 4/1/16.

Accession Number: 20160401-5108.

Comments Due: 5 p.m. ET 4/13/16.

Docket Numbers: RP16-602-001.

Applicants: East Cheyenne Gas Storage, LLC.

Description: Compliance filing ECGS Order No. 587-W Compliance 4-1-16 to be effective 4/1/2016.

Filed Date: 4/1/16.

Accession Number: 20160401-5219.

Comments Due: 5 p.m. ET 4/13/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2016.
Nathaniel J. Davis, Sr.,
Deputy Secretary.

[FR Doc. 2016-08410 Filed 4-12-16; 8:45 am]

BILLING CODE 6717-01-P